DEPARTMENT OF HEALTH AND HUMAN SERVICES

National Institutes of Health

Center for Scientific Review; Amended Notice of Meeting

Notice is hereby given of a change in the meeting of the Center for Scientific Review Special Emphasis Panel, PAR-22-180: Maximizing Investigators Research Award (MIRA), November 06, 2025, 09:30 a.m. to November 07, 2025, 06:00 p.m., National Institutes of Health, Rockledge II, 6701 Rockledge Drive, Bethesda, MD, 20892 which was published in the Federal Register on August 14, 2025, 90 FR 39205, Doc No. 2025-15430.

This meeting is being amended to change the date from November 6-7, 2025, to November 6, 2025. The meeting is closed to the public.

Dated: September 30, 2025.
Sterlyn H Gibson,
Program Specialist, Office of Federal Advisory Committee Policy.

[FR Doc. 2025-20125 Filed 11-17-25; 8:45 am]

BILLING CODE 4140-01-P